COMMITTEE FOR THE IMPLEMENTATION OF TEXTILE AGREEMENTS

Extension of Temporary Amendment to the Requirements for Participating in the Special Access Program for Caribbean Basin Countries; Correction

January 4, 2001.

In the document published in the Federal Register on December 28, 2000 (65 FR 82327), make the following corrections:

1. In the letter to the Commissioner of Customs, 3rd column, 3rd paragraph, 11th line, correct “Categories 433, 443, 633 and 643” to read “Categories 433, 435, 443, 444, 633, 635, 643 and 644.”

2. In the same paragraph, line 17, immediately following “(see 51 FR 21208),” add “and amended on December 9, 1999 to include goods covered under the Outward Processing Program (see 64 FR 69746).”

3. At the end of the same paragraph, line 28, immediately following ”described above” add “or entered under the Outward Processing Program (9802.00.8016) and of a type described above.”

Richard B. Steinkamp,
Chairman, Committee for the Implementation of Textile Agreements.

[FR Doc. 01-627 Filed 1-9-01; 8:45 am]

BILLING CODE 3510-DR-F